DEPARTMENT OF THE INTERIOR

Fish and Wildlife Service

[FWS-R1-R-2012-N132: 1265-0000-10137 S3]

Tualatin River National Wildlife Refuge, Washington and Yamhill Counties, OR, Draft Comprehensive Conservation Plan and Environmental Assessment

AGENCY: Fish and Wildlife Service, Interior.

ACTION: Notice of availability; announcement of meetings; request for comments.

SUMMARY: We, the U.S. Fish and Wildlife Service (Service), announce the availability of a draft comprehensive conservation plan and environmental assessment (Draft CCP/EA) for the Tualatin River National Wildlife Refuge (Refuge) for public review and comment. The Draft CCP/EA describes our proposal for managing the Refuge for the next 15 years.

DATES: To ensure consideration, please send your written comments by November 21, 2012. We will hold public meetings; see Public Meetings under SUPPLEMENTARY INFORMATION for dates, times, and locations.

ADDRESSES: You may submit comments or request printed or CD-ROM copies of the Draft CCP/EA by any of the following methods.

Email: TualatinCCP@fws.gov. Include “Tualatin River NWR Draft CCP/EA” in the subject line of the message.

Fax: Attn: Erin Holmes, Project Leader, (503) 625-5947 (phone).

U.S. Mail: Tualatin River National Wildlife Refuge, 19255 SW Pacific Highway, Sherwood, OR 97140.

In-Person Drop-Off, Viewing, or Pickup: To view or pick up a document at the Refuge, call the Refuge's staff at (503) 625-5944 during regular business hours to make an appointment. Appointments are not needed to drop off comments. For more information on locations for viewing or obtaining documents, see “Public Availability of Documents” under SUPPLEMENTARY INFORMATION.

FOR FURTHER INFORMATION CONTACT: Erin Holmes, Project Leader, (503) 625-5944 (phone); erin_holmes@fws.gov (email).

SUPPLEMENTARY INFORMATION:

Introduction

With this notice, we continue the CCP process for the Refuge. We started this process through a notice in the Federal Register (75 FR 67763; November 3, 2010).

Tualatin River National Wildlife Refuge

The Refuge's five units are located in the Tualatin River basin, near Portland, OR, and encompass a total of 7,370 acres of land within the Refuge's approved acquisition boundary. Of this, we have acquired approximately 2,165 acres of land in fee title or easements, which are managed as part of the Refuge. The Refuge's land acquisition program is ongoing. The Refuge was established in 1992 for the following purposes:

• “The development, advancement, management, conservation, and protection of fish and wildlife resources * * *” 16 U.S.C. 742f(a)(4);

• “The benefit of the United States Fish and Wildlife Service, in performing its activities and services. Such acceptance may be subject to the terms of any restrictive or affirmative covenant, or condition of servitude * * *” 16 U.S.C. 742f(b)(1), Fish and Wildlife Act of 1956; and

• “The conservation of the wetlands of the Nation in order to maintain the public benefits they provide and to help fulfill international obligations contained in various migratory bird treaties and conventions * * *” 16 U.S.C. 3901(b), Emergency Wetlands Resources Act of 1986.

The Refuge protects fish and wildlife and their habitats, and provides a visitor center and wildlife-oriented recreation for nearly 100,000 visitors annually. The Refuge's staff manages predominately flat bottomland bordered by uplands. Habitats include rivers and streams, seasonal, scrub-shrub, and riparian forests; and wet prairie, oak savanna, and mixed forested uplands. These habitats are home to nearly 200 species of birds, more than 50 species of mammals, 25 species of reptiles and amphibians, and a variety of insects, fish, and plants. The Refuge provides wildlife-dependent recreation that includes wildlife observation and photography, and environmental education and interpretation.

Background

The CCP Process

The National Wildlife Refuge System Administration Act of 1966, as amended by the National Wildlife Refuge System Improvement Act of 1997 (together referred to as the Refuge Administration Act), 16 U.S.C. 668dd-668ee, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

In winter 2010 we began our planning process, by publishing a notice in the Federal Register (75 FR 67765, November 3, 2010) and distributing a news release. To familiarize the public with our planning process; the Refuge's purposes; and our fish, wildlife, and recreation resources, we also distributed Planning Update 1 and hosted public meetings. Planning Updates 2 and 3 were distributed in spring and fall of 2011, respectively; we summarized public scoping comments in Planning Update 2, and preliminary alternatives in Planning Update 3. Our mailing list includes more than 800 recipients, representing Federal, State, Tribal, and local agencies; elected officials; nongovernment organizations; businesses; learning institutions; media agencies; private landowners; and individual citizens. We continue to maintain CCP information on our Web site: www.fws.gov/tualatinriver/refugeplanning.htm. We are requesting comments on the Draft CCP/EA through this notice, a news release, Planning Update 4, public meetings, and our Web site.

Draft CCP/EA Alternatives We Are Considering

We evaluated three alternatives for managing the Refuge for a period of 15 years in the Draft CCP/EA. Based on our analysis, Alternative 2 would best achieve the Refuge's purposes; therefore, it is our preferred alternative. We may modify Alternative 2 in the Final CCP/EA, to address comments we may receive on the Draft CCP/EA.

Alternative 1 (No Action Alternative)

The Refuge would continue to acquire, restore, and conserve wetlands and other habitats for native fish and wildlife under Alternative 1. Providing wetlands for migratory birds, including wintering waterfowl, would remain our primary focus. Wetland basins would be mowed, disked, and/or treated with herbicides to mimic natural disturbance cycles, limit plant succession, and suppress invasive plant species. Prairie, oak savanna, and forest habitats would be restored by removing nonnative plants; planting native grasses, forbs, shrubs, and trees; and controlling weeds. The Refuge's high quality wildlife observation, photography, environmental education, and interpretation programs would continue. Visitation would likely increase over the next 15 years; however, staffing levels would not change.

Alternative 2 (Preferred Alternative)

The Tualatin River and Rock Creek Units' riparian forest, scrub-shrub wetland, and herbaceous wetland habitats would not substantially change under Alternative 2. Prescribed fire would be added for habitat management. In the upland area, we would restore mixed forest. We would no longer manipulate water to maintain a 30-acre herbaceous wetland on the Riverboat Unit, resulting in a wetland mixture of wet prairie and scrub-shrub. We would convert approximately 10 acres of riparian forest to wet prairie. At the Atfálat'i Unit, the current channelized Chicken Creek would be restored to its historical footprint. The existing water diversion structure would be relocated to the east, allowing water management on approximately 155 acres of herbaceous wetland, 69 acres less than what is currently managed. We would recontour the ground surface and update water control structures to manage wetlands more effectively. The remaining acres would be converted to wet prairie, oak savanna, and scrub-shrub wetland. We would convert an additional 20 acres of seasonal wetlands and wet prairie in the northern portion of the Atfálat'i Unit to floodplain riparian forest. If further land acquisition occurs at the Onion Flats Unit, we would convert cooperative farming areas into scrub-shrub wetland and oak savanna habitats. These changes could benefit dusky Canada geese and threatened Nelson's checkermallow plants. Rock Creek would be restored to its historical channel. Management of the Wapato Lake Unit would include a mixture of free-flowing hydrology and intensive water control; however, we would transition to a more natural hydrology over the long term. A water management study of the Wapato Lake lakebed would help us identify needed restoration actions. Other actions would include restoring a mosaic of wetlands, riparian forests, oak savannas, prairies, and streams.

The Refuge's existing visitor programs would remain under Alternative 2, with new opportunities, including up to three additional wildlife photography blinds, an environmental education study area, fishing from the River Overlook, and a nature exploration play area. Opportunities to connect to regional trails would be explored. A junior waterfowl hunt would occur on the Riverboat Unit. Opportunities for hunting, photography, fishing, wildlife observation, a nature trail, and interpretive exhibits would be explored at the Wapato Lake Unit, when an adequate land base is acquired, and habitat restoration decisions are made. In the near term, we would pursue environmental education and wildlife-dependent recreation opportunities in the community. Expanding the Refuge's habitat restoration and public use programs would require six additional positions, which we would pursue over the life of the CCP.

Alternative 3

Under Alternative 3, riparian forest would be expanded from 330 acres to approximately 390 acres on the Tualatin River Unit. The remainder of the unit would be mixed forest. Natural hydrologic flows would occur on the Refuge, with less water-level manipulation. At the Atfálat'i Unit, 180 acres of emergent wetland would be converted to riparian forest and scrub-shrub wetlands. The oak savanna, emergent wetland, and wet prairie in the northeastern portion of the Atfálat'i Unit would be converted to riparian forest. Cooperative farming would be phased out at the Onion Flats Unit, as scrub-shrub wetlands are restored. The surrounding upland areas would become mixed forest. At the Riverboat, Rock Creek, and Wapato Lake Units, management would be the same as Alternative 2. The Refuge's staff would continue to explore opportunities for connecting to regional trails. At the Wapato Lake Unit, opportunities for public use would be explored as an adequate land base and access are acquired, and habitat restoration decisions are made. In the near-term, we would pursue education and recreation activities in the community. Limited expansion of the environmental education and recreation programs would occur on the Sherwood Unit under Alternative 3. Improving the quality of existing public uses would be emphasized.

Public Availability of Documents

In addition to methods in ADDRESSES, you can obtain documents on our web site: www.fws.gov/tualatinriver/refugeplanning.htm; or at the following public libraries.

Library | Address | Phone No.
Sherwood Public Library | 21901 SW Sherwood Blvd., Sherwood, OR 97140 | 503-625-6688
Tigard Public Library | 13500 SW Hall Blvd., Tigard, OR 97223 | 503-684-6537
Tualatin Public Library | 18878 Southwest Martinazzi, Tualatin, OR 97062 | 503-691-3071
Forest Grove Public Library | 2114 Pacific Avenue, Forest Grove, OR 97116 | 503-992-3247
Beaverton Public Library | 12375 Southwest 5th Street, Beaverton, OR 97005 | 503-644-2197

Public Meetings

We will hold a public open house meeting during the public comment period. We will announce the open house date, time, and location in a news release, planning update, and on our Web site.

Next Steps

After this comment period ends, we will analyze the comments and address them in our final CCP.

Public Availability of Comments

Before including your address, phone number, email address, or other personal identifying information in your comment, you should be aware that your entire comment—including your personal identifying information—may be made publicly available at any time. While you can ask us in your comment to withhold your personal identifying information from public review, we cannot guarantee that we will be able to do so.

Dated: June 26, 2012.
Hugh Morrison,
Acting Regional Director, Pacific Region, Portland, Oregon.

[FR Doc. 2012-25676 Filed 10-19-12; 8:45 am]

BILLING CODE 4310-55-P